GENERAL ACCOUNTING OFFICE

Commercial Activities Panel

AGENCY: General Accounting Office.

ACTION: Notice of public hearing.

SUMMARY: Section 832 of the National Defense Authorization Act for Fiscal Year 2001 requires the Comptroller General of the United States to convene a panel of experts to study the transfer of commercial activities currently performed by government employees to federal contractors, a procedure commonly known as “contracting out” or “outsourcing.” This notice announces the first of three public hearings to be held by the Commercial Activities Panel (“the Panel”). For the first hearing, the Panel is interested in hearing views on the principles and policies that should govern decisions concerning whether particular functions should be performed by the public sector or the private sector.

DATES: The Commercial Activities Panel will hold a public hearing on June 11, 2001, beginning at 9:00 a.m. in the Walsh-Reckord Hall of States at One Massachusetts Avenue, Washington, DC. Individuals or groups that wish to attend or participate in the hearing should notify the Panel and submit written summaries of their statements by June 4, 2001.

ADDRESSES: Submit requests to attend or participate in the hearing, written summaries of oral statements, and any other relevant materials via E-mail to A76panel@gao.gov or to the General Accounting Office, Office of the General Counsel, Room 7476, 441 G St., NW, Washington, DC 20548. See SUPPLEMENTARY INFORMATION for other information about electronic filing.

FOR FURTHER INFORMATION CONTACT: William T. Woods, Project Director, (202) 512-8214; E-mail: woodsw@gao.gov

SUPPLEMENTARY INFORMATION: Section 832 of the Floyd D. Spence National Defense Authorization Act for Fiscal Year 2001, Public Law 106-398, Oct. 30, 2000, directs the Comptroller General of the United States to convene a panel of experts to study the policies and procedures governing the transfer of commercial activities for the federal government from government personnel to a federal contractor. The Panel's study is to include a review of: (1) procedures for determining whether functions should continue to be performed by government personnel; (2) procedures for comparing the costs of performing functions by government personnel with the costs of performing those functions by federal contractors; (3) implementation by the Department of Defense of the Federal Activities Inventory Reform (FAIR) Act of 1998 (Pub. L. 105-270, 112 Stat. 2382, 31 U.S.C. 501 note); and (4) procedures of the Department of Defense for public-private competitions under Office of Management and Budget (OMB) Circular A-76. Formation of the Panel was announced in the Federal Register on April 17, 2001 (66 FR 19786). By May 1, 2002, the Comptroller General must submit to Congress a report of the Panel on the results of the study, including recommended changes with regard to implementing policies and enactment of legislation.

During the course of its work, the Panel will hold several public hearings. Interested parties are invited to attend these hearings to provide their perspectives on sourcing issues. The first public hearing will be held on June 11, 2001, in the Walsh-Reckord Hall of States at One Massachusetts Avenue, NW, Washington, DC. The hearing will begin at 9:00 a.m. The focus of this first hearing will be the principles and policies underlying outsourcing. Specifically, the Panel is interested in hearing views on the principles and policies that should govern decisions concerning whether particular functions should be performed by the public sector or by the private sector. Future hearings will focus on other aspects of outsourcing.

Any party who would like to attend the hearing or make a presentation should contact William T. Woods at (202) 512-8214 or woodsw@gao.gov. Those who wish to make presentations at the hearing should submit written summaries of their oral statements via E-mail or regular mail as indicated in the ADDRESSES section by 5:30 p.m. on June 4, 2001. The Panel will attempt to accommodate all interested parties who respond before the deadline. Each presenter will have 3 to 5 minutes to make an oral statement at the hearing. Interested parties who would like to make electronic presentations during the hearing must indicate their desire to do so by the June 4 deadline. More detailed guidance on hearing procedures will be provided to presenters by E-mail in advance of the hearing. Any interested party may submit full statements for inclusion in the hearing record by 5:30 p.m. on June 15. The hearing will be transcribed.

Two additional hearings currently are planned outside of Washington, DC. A public hearing will be held in Indianapolis, Indiana, on August 8, 2001, which will focus on alternatives to the public/private competitions conducted pursuant to OMB Circular A-76. Another public hearing will be held in San Antonio, Texas, on August 15, 2001, and will address current processes under OMB Circular A-76 and the FAIR Act. Further information, including the exact locations and times of these hearings, will be announced in a later Federal Register notice. In addition, a notice was issued on March 23, 2001 (66 FR 16245), seeking submission of public comments identifying significant sourcing issues, as well as references to or copies of written materials related to these issues. The Panel will continue to consider all such information received at any time.

Electronic Access and Filing

This notice is available on GAO's website at http://www.gao.gov under “Commercial Activities Panel.” Requests to participate in the hearing, electronic presentations, written summaries of oral statements, full statements, and other submissions regarding outsourcing issues may be sent via E-mail to A76panel@gao.gov.

Dated: May 18, 2001.
Jack L. Brock, Jr.,
Managing Director, Acquisition and Sourcing Management, General Accounting Office.

[FR Doc. 01-13051 Filed 5-22-01; 8:45 am]

BILLING CODE 1610-02-P